FEDERAL COMMUNICATIONS COMMISSION

[FR ID 203614]

Deletion of Item From February 15, 2024 Open Meeting

The following items were adopted by the Commission on February 13, 2024 and deleted from the list of items scheduled for consideration at the Thursday, February 15, 2024, Open Meeting. The items were previously listed in the Commission's Sunshine Notice on Wednesday, February 8, 2023.

Item No. | Bureau | Subject
5 | MEDIA | Title: Restricted Adjudicatory Matter. Summary: The Commission will consider a restricted adjudicatory matter from the Media Bureau.
6 | ENFORCEMENT | Title: Enforcement Bureau Action. Summary: The Commission will consider an enforcement action.

Federal Communications Commission.
Dated: February 13, 2024.
Marlene Dortch,
Secretary.

[FR Doc. 2024-03445 Filed 2-20-24; 8:45 am]

BILLING CODE 6712-01-P